INTERNATIONAL TRADE COMMISSION

[USITC SE-05-032]

Sunshine Act Meeting

Agency Holding the Meeting: United States International Trade Commission.

Time and Date: October 14, 2005 at 11 a.m.

Place: Room 101, 500 E Street SW., Washington, DC 20436, Telephone: (202) 205-2000.

Status: Open to the public.

Matters to be Considered:

1. Agenda for future meetings: None.

2. Minutes.

3. Ratification List.

4. Inv. Nos. 731-TA-298 and 299 (Second Review) (Porcelain-on-Steel Cooking Ware from China and Korea) and 701-TA-267 and 268 and 731-TA-304 and 305 (Second Review) Top-of-the-Stove Stainless Steel Cooking Ware from Korea and Taiwan)—briefing and vote. (The Commission is currently scheduled to transmit its determination and Commissioners' opinions to the Secretary of Commerce on or before October 27, 2005.)

5. Outstanding action jackets: None.

In accordance with Commission policy, subject matter listed above, not disposed of at the scheduled meeting, may be carried over to the agenda of the following meeting.

Issued: October 6, 2005.
By order of the Commission:
Marilyn R. Abbott,
Secretary to the Commission.

[FR Doc. 05-20570 Filed 10-7-05; 3:45 pm]

BILLING CODE 7020-02-P